DEPARTMENT OF DEFENSE

Department of the Army; Corps of Engineers

Intent To Prepare a Draft Supplemental Environmental Impact Statement for the Dredged Material Management Plan for the Calcasieu River and Pass, Louisiana, Federal Navigation Channel

AGENCY: Department of the Army, U.S. Army Corps of Engineers, DoD.

ACTION: Notice of intent.

SUMMARY: The U.S. Army Corps of Engineers, New Orleans District (CEMVN) is initiating this draft supplemental environmental impact statement (DSEIS) under the authority of the Rivers and Harbors Act of July 24, 1946 (House Document 190, 79th Congress, 2nd Session) and prior Rivers and Harbors acts; the Rivers and Harbors Act of July 14, 1960 (House Document 436, 86th Congress, 2nd Session); the Rivers and Harbors Act of October 23, 1962 (House Document 582, 87th Congress, 2nd Session); the Senate Public Works committee on December 27, 1970, and the House Public Works committee on December 15, 1970, under the provisions of Section 201 of the Flood Control Act of 1965 (Pub. L. 89-298; S.D. 91-111); and Section 107 of the Rivers and Harbors Act of 1960, as amended by Section 310 and Section 112 of the Rivers and Harbors Acts of 1965 and 1970, respectively, to investigate dredged material placement for the next 20 years of maintenance dredging of the Calcasieu and River and Pass, LA. The Calcasieu River and Pass, LA project does not have adequate dredged material disposal areas for the long-term maintenance of the project. Existing disposal sites are at or near capacity, and some disposal sites have been substantially eroded into adjacent water bodies. Other disposal areas have been lost to commercial developments. As a result, remaining disposal areas cannot accommodate the volume of dredged material needed to maintain the Calcasieu River and Pass, LA navigation channel to project-authorized dimensions, and CEMVN has been forced to reduce channel dimensions in some reaches.

FOR FURTHER INFORMATION CONTACT: Questions concerning this DEIS should be addressed to Mr. Casey Rowe at U.S. Army Corps of Engineers, PM-RP, P.O. Box 60267, New Orleans, LA 70160-0267, phone (504) 862-1583, fax number (504) 862-2572 or by e-mail at Casey.J.Rowe@mvn02.usace.army.mil.

SUPPLEMENTARY INFORMATION: 1. Proposed Action. The overall goal of the dredged material management plan is to investigate and develop a long-term management plan to maintain, in an economically and environmentally sound manner, the Federally authorized channel dimensions, and maximize the use of the dredged material as a beneficial resource.

2. Alternatives. A number of alternative dredged material disposal sites will be investigated for the Calcasieu River and Pass, LA project, as well as feasible alternatives to maximize the capacity of existing dredged material disposal areas along the channel.

3. Scoping. Scoping is the process for determining the scope of alternatives and significant issues to be addressed in the DSEIS. For this analysis, a letter will be sent to all parties believed to have an interest in the analysis, requesting their input on alternative disposal sites and issues to be evaluated. The letter will also notify interested parties of public scoping meetings that will be held in the local area. Notices will also be sent to local news media. All interested parties are invited to comment at this time, and anyone interested in this study should request to be included in the study mailing list.

Two public scoping meetings will be held in July 2005, in Calcasieu and Cameron Parishes. Depending on public interest, and if further public coordination is warranted, additional meetings may be scheduled.

4. Significant Issues. The tentative list of resources and issues to be evaluated in the DSEIS include essential fish habitat, wetlands, aquatic resources, commercial and recreational fisheries, wildlife resources, water quality, air quality, threatened and endangered species, recreation resources, and cultural resources. Socioeconomic impacts will also be evaluated in the DSEIS, including navigation as well as potential noise impacts.

Environmental Consultation and Review. The U.S. Fish and Wildlife Service (USFWS) will be assisting in the documentation of existing conditions and assessment of effects of project alternative through Fish and Wildlife Coordination Act consultation procedures. The USFWS will also provide a Fish and Wildlife Coordination Act report. The CEMVN will consult with the USFWS and National Marine Fisheries Service (NMFS) concerning threatened and endangered species and their critical habitat. The CEMVN will coordinate with the Advisory Counsel on Historic Preservation and the State Historic Preservation Officer. The CEMVN will coordinate with the Louisiana Department of Natural Resources regarding consistency with the Coastal Zone Management Act. The Louisiana Department of Environmental Quality will review the action for consistency with applicable laws regarding the discharge of dredged material as it relates to impacting water quality and will provide the State of Louisiana Water Quality Certification. Coordination may also occur with the following agencies for evaluation of impacts to significant resources: U.S. Environmental Protection Agency, Minerals Management Service, Natural Resources Conservation Service, U.S. Geologic Survey, and Louisiana Department of Wildlife and Fisheries.

Estimated Date of Availability. Funding levels and time constraints will dictate the date when the DSEIS will be available for review. The earliest date that the draft EIS is expected to be available is November 2006.

Dated: June 23, 2005.
Stephen E. Jeselink,
Lieutenant Colonel, U.S. Army, District Engineer.

[FR Doc. 05-13872 Filed 7-13-05; 8:45 am]

BILLING CODE 3710-84-M